DEPARTMENT OF TRANSPORTATION

Federal Aviation Administration

14 CFR Part 39

[Docket No. FAA-2005-22289; Directorate Identifier 2005-NM-101-AD; Amendment 39-14446; AD 2006-01-07]

RIN 2120-AA64

Airworthiness Directives; Boeing Model 747-100, 747-100B, 747-200B, 747-200C, 747-200F, 747-400F, 747SR, and 747SP Series Airplanes

AGENCY: Federal Aviation Administration (FAA), Department of Transportation (DOT).

ACTION: Final rule.

SUMMARY: The FAA is adopting a new airworthiness directive (AD) for certain Boeing Model 747-100, 747-100B, 747-200B, 747-200C, 747-200F, 747-400F, 747SR, and 747SP series airplanes, without a stretched upper deck or stretched upper deck modification. This AD requires detailed and high-frequency eddy current inspections for cracks of each affected tension tie and of the surrounding structure, and related investigative and corrective actions if necessary. This AD results from a report of a crack in the tension tie at the body station 820 frame connection, and cracks found on the Boeing 747SR fatigue-test airplane in both the tension ties and frames at the tension tie to frame connections at body stations 800, 820, and 840. We are issuing this AD to find and fix cracks in the tension ties, which could lead to cracks in the skin and body frame and result in rapid in-flight depressurization of the airplane.

DATES: This AD becomes effective February 16, 2006.

The Director of the Federal Register approved the incorporation by reference of a certain publication listed in the AD as of February 16, 2006.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 747-100, 747-100B, 747-200B, 747-200C, 747-200F, 747-400F, 747SR, and 747SP series airplanes, without a stretched upper deck or stretched upper deck modification. That NPRM was published in the Federal Register on September 6, 2005 (70 FR 52945). That NPRM proposed to require detailed and high-frequency eddy current inspections for cracks at the outboard ends of each affected tension tie and of the surrounding structure, and related investigative and corrective actions if necessary.

Comments

We provided the public the opportunity to participate in the development of this AD. We have considered the comments received.

Request to Remove References to “Outboard Ends”

The commenter, the airplane manufacturer, requests that we remove the phrase “at the outboard ends” when referring to the tension ties and their surrounding structure. The commenter states that making this change would clarify that the inspection of the affected tension ties is from end to end. The commenter states that this change is consistent with Boeing Special Attention Service Bulletin 747-53-2502, dated April 21, 2005, which specifies inspections from end to end of each applicable tension tie. The commenter requests that we remove the reference “at the outboard ends” from the title of the NPRM, the “Summary” section, the “Relevant Service Information” section, and paragraph (f).

We agree with the commenter. It is our intention that operators inspect the affected tension ties and their surrounding structure in accordance with the special attention service bulletin. We carried over the phrase “at the outboard ends” from the “Action” and “Description” paragraphs of the special attention service bulletin. To avoid confusion, we have removed all appearances of this phrase from the final rule. We have changed paragraph (f) and the “Summary” section. We have not changed the “Relevant Service Information” section since that section of the preamble does not reappear in the final rule. We have also not changed the title of the NPRM because we do not give titles to NPRMs. We have retained the reference to the outboard ends in the “Discussion” section of the final rule because that section quotes the NPRM as it appeared originally in the Federal Register.

Request to Correct Paragraph Citations

The same commenter notes that there are two typographical errors in paragraph (g) of the NPRM, the Alternative Methods of Compliance (AMOCs)” paragraph. The commenter points out that the references to paragraphs (g)(1)(i) and (g)(2)(ii) should refer to paragraphs (g)(3)(i) and (g)(3)(ii).

We agree with the commenter. As noted below under “Clarification of AMOC Paragraph,” we have also clarified paragraph (g) of the final rule to add a new paragraph (g)(2). Therefore, we have corrected the references in the final rule as requested, but the new references are to paragraphs (g)(4)(i) and (g)(4)(ii).

Clarification of AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Interim Action

We consider this proposed AD interim action. The manufacturer is currently developing a modification that will address the unsafe condition identified in this AD. Once this modification is developed, approved, and available, we may consider additional rulemaking.

Costs of Compliance

There are about 458 airplanes of the affected design in the worldwide fleet. This AD affects about 141 airplanes of U.S. registry. The inspections take about 8 work hours per tension tie location. There are between 8 and 12 tension tie locations on each airplane, depending on the airplane's configuration. The average labor rate is $65 per work hour. Based on these figures, the estimated cost of the AD for U.S. operators is between $586,560 and $879,840, or between $4,160 and $6,240 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-01-07 Boeing: Amendment 39-14446. Docket No. FAA-2005-22289; Directorate Identifier 2005-NM-101-AD.

Effective Date

(a) This AD becomes effective February 16, 2006.

Affected ADs

(b) None.

Applicability

(c) This AD applies to Boeing Model 747-100, 747-100B, 747-200B, 747-200C, 747-200F, 747-400F, 747SR, and 747SP series airplanes, certificated in any category; without a stretched upper deck or stretched upper deck modification; as identified in Boeing Special Attention Service Bulletin 747-53-2502, dated April 21, 2005.

Unsafe Condition

(d) This AD results from a report of a crack in the tension tie at the body station 820 frame connection, and cracks found on the Boeing 747SR fatigue-test airplane in both the tension ties and frames at the tension tie to frame connections at body stations 800, 820, and 840. We are issuing this AD to find and fix cracks in the tension ties, which could lead to cracks in the skin and body frame and result in rapid in-flight depressurization of the airplane.

Compliance

(e) You are responsible for having the actions required by this AD performed within the compliance times specified, unless the actions have already been done.

Repetitive Inspections and Corrective Actions

(f) At the applicable time in paragraph (f)(1) or (f)(2) of this AD: Do detailed and high-frequency eddy current inspections for cracking of each affected tension tie and of the surrounding structure. If any cracking is found: Before further flight, do all applicable corrective and related investigative actions. Do all actions in accordance with the Accomplishment Instructions of Boeing Special Attention Service Bulletin 747-53-2502, dated April 21, 2005. Where the special attention service bulletin specifies to contact Boeing for repair instructions: Before further flight, repair the area using a method approved in accordance with paragraph (g) of this AD.

(1) For airplanes identified in the special attention service bulletin as Groups 1, 3, and 6 airplanes: Do the first inspections before the accumulation of 20,000 total flight cycles, or within 1,000 flight cycles after the effective date of this AD, whichever occurs later; and repeat the inspections thereafter at intervals not to exceed 4,000 flight cycles.

(2) For airplanes identified in the special attention service bulletin as Group 2, 4, and 5 airplanes: Do the first inspections before the accumulation of 17,000 total flight cycles, or within 1,000 flight cycles after the effective date of this AD, whichever occurs later; and repeat the inspections thereafter at intervals not to exceed 3,000 flight cycles.

Alternative Methods of Compliance (AMOCs)

(g)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(4) Certain actions required by paragraph (f) of this AD are AMOCs for certain requirements in the ADs identified in paragraphs (g)(4)(i), (g)(4)(ii), and (g)(4)(iii) of this AD. All provisions of the referenced ADs, including applicable post-modification inspection thresholds, remain fully applicable and must be complied with.

(i) Repairs of the aft tension tie channels done in accordance with this AD are AMOCs for the repair requirements of paragraph A. of AD 84-19-01, amendment 39-4913, and paragraphs (a)(2) and (b)(2) of AD 94-13-06, amendment 39-8946.

(ii) The inspection requirements of this AD are AMOCs for the post-modification inspection requirements of paragraph B. of AD 84-19-01, and paragraph (b) of AD 94-13-06.

(iii) The inspection requirements of this AD are AMOCs for the inspections of structural significant item (SSI) F-19A of Boeing Supplemental Structural Inspection Document D6-35022, Revision G, dated December 2000, as required by paragraphs (c) and (d) of AD 2004-07-22, amendment 39-13566.

Material Incorporated by Reference

(h) You must use Boeing Special Attention Service Bulletin 747-53-2502, dated April 21, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 30, 2005.
Linda Navarro,
Acting Manager, Transport Airplane Directorate, Aircraft Certification Service.

[FR Doc. 06-183 Filed 1-11-06; 8:45 am]

BILLING CODE 4910-13-P